DEPARTMENT OF ENERGY

Federal Energy Regulatory Commission

[Docket No. CP01-44-000]

Nicole Gas Production, LTD; Notice of Application

December 11, 2000.

On November 30, 2000, Nicole Gas Production, LTD (Nicole) 513 E. Rich St., Suite 306, Columbus, Ohio 43215, filed an application in Docket No. CP01-44-000 pursuant to Section 7(c) of the Natural Gas Act (NGA) and part 157 of the Commission's regulations for a limited jurisdiction certificate authorizing the incidental use of certain facilities (Facilities) currently owned by Columbia Gas Transmission Corporation (Columbia) in West Virginia and Pennsylvania to deliver gas to existing customers of local distribution companies, all as more fully set forth in the application which is on file with the Commission and open to public inspection. The filing may be viewed at http://www.ferc.fed.us/online/rims.htm (call 202-208-2222 for assistance).

Upon acquiring the subject facilities, Nicole will continue to provide transportation of gas to these customers. Currently, Columbia transports locally produced gas through the Facilities to its mainline transmission system. Between the point of receipt and delivery to Columbia's transmission system, gas is delivered at numerous points to a LDC and its customers. According to Columbia, gas supply in certain portions of the system is insufficient to meet demand when there are episodes of high demand for gas. During such a time, gas from Columbia's main transmission system backflows into the gathering lines to satisfy any gas shortfall. Presently, Nicole is a natural gas production company engaged in the development and management of natural gas wells and associated facilities that it currently owns and operates facilities in West Virginia and Pennsylvania. Nicole asks that the Commission issue a limited jurisdictional certificate that does not include the full panoply of NGA rate and service obligations and which would extend only to the specific activity authorized, leaving the gatherer non-jurisdictional with respect to any remaining gathering activities.

Nicole states that the sale of the Facilities by Columbia to Nicole is in the public convenience and necessity because it will operate the Facilities for the benefit of its product shipper customers and meet the delivery needs of the LDC and its customer who currently receive gas from these facilities. Nicole requests that such action be taken so that the limited certificate can be issued by May 1, 2001.

Questions regarding the details of this proposed application should be directed to Freddie L. Fulson, Manager, Nicole Gas Production, LTD, 513 E. Rich Street, Suite 306, Columbus, Ohio 43215, call (614) 221-5004.

There are two ways to become involved in the Commission's review of this abandonment. First, any person wishing to obtain legal status by becoming a party to the proceedings for this abandonment should, on or before January 2, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying abandonment will be issued.

David P. Boergers,
Secretary.

[FR Doc. 00-31970 Filed 12-14-00; 8:45 am]

BILLING CODE 6717-01-M